DEPARTMENT OF THE TREASURY

Alcohol and Tobacco Tax and Trade Bureau

27 CFR Part 9

[Notice No. 76]

RIN 1513-AB49

Proposed Establishment of the Leona Valley Viticultural Area (2007R-281P)

AGENCY: Alcohol and Tobacco Tax and Trade Bureau, Treasury.

ACTION: Notice of proposed rulemaking.

SUMMARY: The Alcohol and Tobacco Tax and Trade Bureau proposes to establish the 13.4 square mile “Leona Valley” viticultural area in the northeast part of Los Angeles County, California. We designate viticultural areas to allow vintners to better describe the origin of their wines and to allow consumers to better identify wines they may purchase. We invite comments on this proposed addition to our regulations.

DATES: We must receive written comments on or before January 22, 2008.

ADDRESSES: You may send comments on this notice to one of the following addresses:

• http://www.regulations.gov (Federal e-rulemaking portal; follow the instructions for submitting comments); or

• Director, Regulations and Rulings Division, Alcohol and Tobacco Tax and Trade Bureau, P.O. Box 14412, Washington, DC 20044-4412.

See the Public Participation section of this notice for specific instructions and requirements for submitting comments, and for information on how to request a public hearing.

You may view copies of this notice, selected supporting materials, and any comments we receive about this proposal at http://www.regulations.gov under Docket No. 2007-0066. You also may view copies of this notice, all related petitions, maps, or other supporting materials, and any comments we receive about this proposal by appointment at the TTB Information Resource Center, 1310 G Street, NW., Washington, DC 20220. To make an appointment, call 202-927-2400.

FOR FURTHER INFORMATION CONTACT: N.A. Sutton, Regulations and Rulings Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Leona Valley Petition

Mr. Ralph Jens Carter submitted a petition for the 13.4 square mile Leona Valley viticultural area on behalf of the Antelope Valley Winegrowers Association, the Leona Valley Winery, and Donato Vineyards. The area currently includes 20 acres of vineyards, and more acreage for wine grape growing is under development.

The proposed boundary line defines an area where viticulture is already established or has potential for establishment. Consequently, the area defined is limited to the valley floor and side slopes. The distinguishing features of the proposed viticultural area include the physical characteristics of the San Andreas Fault system, the fault-controlled Leona Valley, and the surrounding, high-elevation mountains. The climate, geology, and soils distinguish the proposed viticultural area from areas outside of the proposed boundary line.

Name Evidence

According to the petitioner, the name “Leona” derives from an early rancher named Miguel Leonis, and in the 1880s, a homesteader from Nebraska called the area “Leona Valley.” The “Leona Valley” name identifies a valley, a town within the valley, a ranch (the Leona Valley Ranch), and a festival (the annual Leona Valley Cherry Festival).

The petitioner provides maps that show that the Leona Valley is located in the northeast part of Los Angeles County, California. The “Leona Valley” name appears on the USGS Ritter Ridge, Sleepy Valley, and Del Sur quadrangle maps, which the petitioner uses to define the boundary line of the proposed viticultural area. The Sleepy Valley map also identifies a small town in the valley as “Leona Valley.” A recent atlas identifies both a valley and small town within the proposed viticultural area as “Leona Valley” (The DeLorme Southern and Central California Atlas and Gazetteer, 2005, page 79).

Boundary Evidence

According to the petitioner, and as evidenced by the written boundary description and the USGS Sleepy Valley quadrangle map, the proposed viticultural area includes the town and valley which are both named “Leona Valley.” The proposed boundary line borders the Angeles National Forest to the west and the Antelope Valley and the Mojave Desert to the northeast. Mountains and hills surround all sides of the valley. The floor and side slopes of the Leona Valley influence the shape of the proposed viticultural area, which includes vineyards in remote, but suitable, areas, but excludes steep slopes where erosion is a hazard.

According to the petitioner, historically, the Native American Shoshone Tribe lived as hunters and gatherers in the Leona Valley area. In the mid-1800s, when the Shoshone departed the area, immigrants from Spain and Mexico started cattle ranching. During the 1880s, homesteaders from Nebraska, France, and Germany divided the ranches into smaller parcels for farms.

In the early 1900s the John Ritter family began to plant grapes in the Leona Valley area. The Ritter family winery, Belvino Vineyards, aged wine in a cave for at least 5 years before bottling and selling the wine on national and international markets. During Prohibition, the Ritters ceased producing wine. The petitioner notes that local residents report that zinfandel and mission vines planted in the early 1900s are still growing.

Currently, the proposed Leona Valley viticultural area contains 20 acres of commercial wine grape production on David Reynolds' Leona Valley Winery and an acreage of pinot noir grapes on land owned by Donato Vineyards. Donato Vineyards, at the southeast end of the Leona Valley, plans to develop another 10 acres for growing wine grapes and to start producing wine in 2007-8.

Distinguishing Features

The petitioner states that the distinguishing features of the proposed Leona Valley viticultural area consist of climate, physical features, geology, and soils. As evidence of many of the distinguishing features of the proposed viticultural area, the petitioner cites the Soil Survey of the Antelope Valley Area, California (United States Department of Agriculture, Soil Conservation Service, in cooperation with the University of California Agricultural Experiment Station, 1970).

Climate

The soil survey designates the southern and western parts of the Antelope Valley and the Leona Valley, as Major Land Resource Area (MLRA) 19, Southern California Coastal Plain. The petitioner explains that MLRA 19 has a distinctive combination of climate, soils, and mild temperatures, including an annual, 210- to 300-day frost-free period. Also, MLRA 19 is hot and dry in summer and cool and moist in winter. It is suitable to a wide variety of field, fruit, and nut crops. Annual precipitation ranges from 9 to 16 inches in MLRA 19, and irrigation use is routine. According to the soil survey, the land management techniques and cropping systems used in MLRA 19 are different from those used in the adjacent MLRA 30, Mojave Basin and Range, and MLRA 20, Southern California Mountains.

The petitioner also cites the Sunset Western Garden Book, which classifies the Leona Valley area as Zone No. 18, Southern California's Interior Valleys (Sunset Publishing Corporation, Menlo Park, California, 1995). In this zone the continental air mass is a major influence on climate, and the Pacific Ocean determines the climate in the valley only about 15 percent of the time.

According to the petitioner, annual precipitation within the proposed Leona Valley viticultural area ranges from 9 to 12 inches. In the Mojave Desert to the east of the Leona Valley, the range is only 4 to 9 inches. In the mountainous areas surrounding Leona Valley to the south, west, and north, the range is between 12 and 20 inches.

The petitioner states that the growing season of the proposed viticultural area has warm days and cool nights. The cool nights slow the ripening of the grapes, helping the grapes to retain their natural acidity. Air drainage off the slopes of the hills and mountains helps prevent spring frost damage to grapes.

The petitioner submitted comparative data based on the Winkler Climate Classification System. In the Winkler climate classification system, heat accumulation per year defines climatic regions. As a measurement of heat accumulation during the growing season, 1 degree day accumulates for each degree Fahrenheit that a day's mean temperature is above 50 degrees, which is the minimum temperature required for grapevine growth; see “General Viticulture,” by Albert J. Winkler, University of California Press, 1974. Climatic region I has less than 2,500 degree days per year; region II, 2,501 to 3,000; region III, 3,001 to 3,500; region IV, 3,501 to 4,000; and region V, 4,001 or more.

The petitioner states that the air temperatures during the growing season in the proposed viticultural area have an average heat summation of 4,060 degree days, which falls into the low range of region V. The annual heat summation totals of the regions in and around the proposed Leona Valley viticultural area are listed in the table below.

Region | Relative position with reference to Leona Valley | Average annual heat summation in degree days/climatic region
Leona Valley | Within | 4,060 (low region V).
Sandberg | 25 miles west-northwest | 3,370 (mid region III).
Tehachapi | 38 miles north-northwest | 2,900 (high region II).
Lancaster | 15 miles northeast | 4,600 (high region V).

Physical Features

According to USGS maps of the region, the Leona Valley is a low, sloping landform with elevations between 2,932 and 3,800 feet. It is surrounded by higher hills, Portal Ridge, Ritter Ridge, Sierra Pelona, and the mountains of the Angeles National Forest, the highest of which has an elevation of 4,215 feet. According to the petitioner, the Leona Valley has isolated knolls of significantly different elevations and, in places, narrows to a width of a mile.

The petitioner explains that the San Andreas Fault, a major continental fault system, is a significant distinguishing feature of the proposed Leona Valley viticultural area. As shown on the USGS maps of the region, the fault and its tributary faults in the Leona Valley trend southeast to northwest. The petitioner explains that the Leona Valley formed either when two parallel fault lines lifted mountains beside a drop-down area or when erosion over thousands of years caused a deep dissection in the fault zone. Seismic movement along the fault line has formed ridges and isolated hills and exposed various rocks.

The petitioner states that ground water provides a plentiful supply of water for vineyard irrigation within the proposed Leona Valley viticultural area. As shown on the Ritter Ridge, Sleepy Valley, and Del Sur quadrangle USGS maps, many agricultural wells tap into the ground water.

Geology

The petitioner explains that relative displacement and a lack of continuity of the rocks on either side of the San Andreas Fault contribute to the complexity, weakening, and erosion of the parent rock. Near some portions of the fault the varying sedimentary strata determine the geologic formation.

Citing a California Department of Conservation Geologic Map, the petitioner notes that the mostly nonmarine and unconsolidated alluvium on the Leona Valley floor is from the Quaternary Period, or about 2 million years old or less. The various types of schist, quartz, granite, and a complex of mixed, Precambrian igneous and metamorphic rocks in the valley contrast with the surrounding hills, which formed on Paleozoic or Mesozoic strata, 65 to 280 million years ago.

Soils

The petitioner explains that a fault increases the variety of rock exposed on the surface and eventually results in the formation of a greater variety of soil textures. Thus, the San Andreas fault influenced the properties and mineralogy of the soils in the Leona Valley.

The petitioner states that the soils on the Leona Valley floor differ from those beyond the boundary line of the proposed viticultural area. The surface layer of the soils in the Leona Valley formed in a mixture of soil material that originated on the surrounding mountains and decayed organic matter. Multiple rock types on the valley floor were the parent material of alluvial soils that have diverse mineralogy and texture. The soils on the valley floor are deep and moderately drained; those on the surrounding hills are shallow and excessively well drained.

According to the soil survey, the soils of the proposed Leona Valley viticultural area are mainly the Hanford-Ramona-Greenfield association on alluvial fans and terraces. This association consists of nearly level to moderately steep, well drained, very deep soils that have a surface layer of loamy sand to loam. Hanford soils are well drained. They do not have a hardpan or a compacted clay layer, and are easily worked. Included in this association are some areas of deep, poorly drained Chino loam, which does not have a seasonal high water table. The petitioner explains that to control wetness in poorly drained areas, growers may install artificial drainage or plant competing crops.

The petitioner explains that the Vista-Amagora association is among the dominant soils at higher elevations outside the boundary line of the proposed Leona Valley viticultural area. This association consists of strongly sloping to steep, well drained to excessively drained soils that have a surface layer of coarse sandy loam. South of the valley, in smaller areas, is the Anaverde-Godde association. It consists of moderately steep or steep, well drained soils that have a surface layer of sandy loam or loam.

Boundary Description

See the narrative boundary description of the petitioned-for viticultural area in the proposed regulatory text published at the end of this notice.

Maps

The petitioner provided the required maps, and we list them below in the proposed regulatory text.

TTB Determination

TTB concludes that this petition to establish the 13.4 square mile Leona Valley viticultural area merits consideration and public comment, as invited in this notice.

Impact on Current Wine Labels

Part 4 of the TTB regulations prohibits any label reference on a wine that indicates or implies an origin other than the wine's true place of origin. If we establish this proposed viticultural area, its name, “Leona Valley,” will be recognized as a name of viticultural significance under 27 CFR 4.39(i)(3). The text of the proposed regulation clarifies this point. Consequently, wine bottlers using “Leona Valley” in a brand name, including a trademark, or in another label reference as to the origin of the wine, will have to ensure that the product is eligible to use the viticultural area's name as an appellation of origin. On the other hand, we do not believe that the “Leona” part of the proposed viticultural area name, standing alone, should have viticultural significance if the new area is established. Accordingly, the proposed part 9 regulatory text set forth in this document specifies only the full “Leona Valley” name as a term of viticultural significance for purposes of part 4 of the TTB regulations.

For a wine to be eligible to use as an appellation of origin a viticultural area name or other term specified as being viticulturally significant in part 9 of the TTB regulations, at least 85 percent of the wine must be derived from grapes grown within the area represented by that name or other term, and the wine must meet the other conditions listed in 27 CFR 4.25(e)(3). If the wine is not eligible to use the viticultural area name or other term as an appellation of origin and that name or other term appears in the brand name, then the label is not in compliance and the bottler must change the brand name and obtain approval of a new label. Similarly, if the viticultural area name or other term appears in another reference on the label in a misleading manner, the bottler would have to obtain approval of a new label. Accordingly, if a new label or a previously approved label uses the name “Leona Valley” for a wine that does not meet the 85 percent standard, the new label will not be approved, and the previously approved label will be subject to revocation, upon the effective date of the approval of the Leona Valley viticultural area.

Different rules apply if a wine has a brand name containing a viticultural area name or other viticulturally significant term that was used as a brand name on a label approved before July 7, 1986. See 27 CFR 4.39(i)(2) for details.

Public Participation

Comments Invited

We invite comments from interested members of the public on whether we should establish the proposed viticultural area. We are also interested in receiving comments on the sufficiency and accuracy of the name, boundary, climatic, and other required information submitted in support of the petition. Please provide any available specific information in support of your comments.

Because of the potential impact of the establishment of the proposed Leona Valley viticultural area on wine labels that include the words “Leona Valley” as discussed above under “Impact on Current Wine Labels,” we are particularly interested in comments regarding whether there will be a conflict between the proposed area name and currently used brand names. If a commenter believes that a conflict will arise, the comment should describe the nature of that conflict, including any negative economic impact that approval of the proposed viticultural area will have on an existing viticultural enterprise. We are also interested in receiving suggestions for ways to avoid any conflicts, for example by adopting a modified or different name for the viticultural area.

Although TTB believes that only the full “Leona Valley” name should be considered to have viticultural significance upon establishment of the proposed new viticultural area, we also invite comments from those who believe that “Leona” standing alone would have viticultural significance upon establishment of the area. Comments in this regard should include documentation or other information supporting the conclusion that use of “Leona” on a wine label could cause consumers and vintners to attribute to the wine in question the quality, reputation, or other characteristic of wine made from grapes grown in the proposed Leona Valley viticultural area.

Submitting Comments

You may submit comments on this notice by one of the following two methods:

• Federal e-Rulemaking Portal: To submit a comment on this notice using the online Federal e-rulemaking portal, visit http://www.regulations.gov and select “Alcohol and Tobacco Tax and Trade Bureau” from the agency drop-down menu and click “Submit.” In the resulting docket list, click the “Add Comments” icon for Docket No. 2007-0066 and complete the resulting comment form. You may attach supplemental files to your comment. More complete information on using Regulations.gov, including instructions for accessing open and closed dockets and for submitting comments, is available through the site's “User Tips” link.

• Mail: You may send written comments to the Director, Regulations and Rulings Division, Alcohol and Tobacco Tax and Trade Bureau, P.O. Box 14412, Washington, DC 20044-4412.

Please submit your comments by the closing date shown above in this notice. Your comments must include this notice number and your name and mailing address. Your comments must be legible and written in language acceptable for public disclosure. We do not acknowledge receipt of comments, and we consider all comments as originals.

If you are commenting on behalf of an association, business, or other entity, your comment must include the entity's name as well as your name and position title. If you comment via http://www.regulations.gov, please enter the entity's name in the “Organization” blank of the comment form. If you comment via mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

On the Federal e-rulemaking portal, we will post, and you may view, copies of this notice, selected supporting materials, and any electronic or mailed comments we receive about this proposal. To view a posted document or comment, go to http://www.regulations.gov and select “Alcohol and Tobacco Tax and Trade Bureau” from the Agency drop-down menu and click “Submit.” In the resulting docket list, click the appropriate docket number, then click the “View” icon for any document or comment posted under that docket number.

All submitted and posted comments will display the commenter's name, organization (if any), city, and State, and, in the case of mailed comments, all address information, including e-mail addresses. We may omit voluminous attachments or material that we consider unsuitable for posting.

You also may view copies of this notice, all related petitions, maps, and other supporting materials, and any electronic or mailed comments we receive about this proposal by appointment at the TTB Information Resource Center, 1310 G Street, NW., Washington, DC 20220. You may also obtain copies at 20 cents per 8.5 x 11-inch page. Contact our information specialist at the above address or by telephone at 202-927-2400 to schedule an appointment or to request copies of comments or other materials.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

Drafting Information

N.A. Sutton of the Regulations and Rulings Division drafted this notice.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.__ to read as follows:

§ 9.__ Leona Valley.

(a) Name. The name of the viticultural area described in this section is “Leona Valley”. For purposes of part 4 of this chapter, “Leona Valley” is a term of viticultural significance.

(b) Approved maps. The four United States Geological Survey 1:24,000 scale topographic maps used to determine the boundary of the Leona Valley viticultural area are titled:

(1) Ritter Ridge, Calif., 1958; Photorevised 1974;

(2) Sleepy Valley, CA, 1995;

(3) Del Sur, CA, 1995; and

(4) Lake Hughes, CA, 1995.

(c) Boundary. The Leona Valley viticultural area is located in Los Angeles County, California. The boundary of the Leona Valley viticultural area is as described below:

(1) From the beginning point on the Ritter Ridge map at the intersection of Elizabeth Lake Pine Canyon Road and the section 23 east boundary line, T6N, R13W, proceed along the section 23 east boundary line approximately 0.1 mile straight south to its intersection with the 3,000-foot elevation line, T6N, R13W; then

(2) Proceed west along the 3,000-foot elevation line to its intersection with the section 23 west boundary line, T6N, R13W; then

(3) Proceed south along the section 23 west boundary line to the southwest corner of section 23 at the 3,616-foot marked elevation point, T6N, R13W; then

(4) Proceed west along the section 22 south boundary line, crossing onto the Sleepy Valley map, and continuing along the section 21 south boundary line, crossing over Pine Creek, to its intersection with the 3,400-foot elevation line, T6N, R13W; then

(5) Proceed west along the 3,400-foot elevation line to its intersection with the section 19 south boundary line and Bouquet Canyon Road, T6N, R13W; then

(6) Proceed straight west along the section 19 south boundary line to its intersection with the 3,560-foot elevation line, an unimproved road, and a power transmission line, north of Lincoln Crest, T6N, R13W; then

(7) Proceed northeast along the 3,560-foot elevation line across section 19 to its east boundary line, T6N, R13W; then

(8) Proceed in a straight line north-northwest approximately 0.25 miles to its intersection with a trail and the 3,800-foot elevation line, T6N, R13W; then

(9) Proceed northwest along the meandering 3,800-foot elevation line through section 19 to its intersection with the section 13 southeast corner, T6N, R14W; then

(10) Proceed straight west, followed by straight north, along the marked Angeles National Forest border to the section 11 southeast corner: then

(11) Proceed straight north along the section 11 east boundary line to its intersection with the 3,400-foot elevation line south of an unimproved road, T6N, R14W; then

(12) Proceed generally northwest along the 3,400-foot elevation line through section 11, crossing onto the Del Sur map, to its intersection with the section 3 southeast corner, T6N, R14W; then

(13) Proceed straight west to the section 4 southeast corner, T6N, R14W; then

(14) Proceed straight north along the section 4 east boundary line approximately 0.05 mile to its intersection with the 3,600-foot elevation line, T6N, R14W; then

(15) Proceed northwest along the 3,600-foot elevation line, through section 4 and crossing onto the Lake Hughes map, to its intersection with the Angeles National Forest border and the section 4 western boundary line, T6N, R14W; then

(16) Proceed straight north along the section 4 western boundary line to its intersection with BM 3402, south of Andrade Corner, T7N, R14W; then

(17) Proceed in a line straight northeast, crossing onto the Del Sur map, to its intersection with the marked 3,552-foot elevation point, section 33, T7N, R14W; then

(18) Proceed in a line straight east-southeast to its intersection with the marked 3,581-foot elevation point, and continue in a straight line east-southeast to its intersection with the marked 3,637-foot elevation point, T6N, R14W; then

(19) Proceed in a line straight northeast to its intersection with the section 2 northwest corner, T6N, R14W; then

(20) Proceed straight east along the section 2 north boundary line 0.35 mile to its intersection with the 3,600-foot elevation line, T6N, R14W; then

(21) Proceed north and then generally southeast along the 3,600-foot elevation line that runs parallel to and south of the Portal Ridge to the elevation line's intersection with the section 7 east boundary line, T6N, R13W; then

(22) Proceed straight south along the section 7 east boundary line, crossing onto the Sleepy Valley map, to its intersection with the 3,400-foot elevation line north of the terminus of 90th Street, T6N, R13W; then

(23) Proceed generally east-southeast along the 3,400-foot elevation line that runs north of the San Andreas Rift Zone to its intersection with the section 16 east boundary line, T6N, R13W; then

(24) Proceed straight south along the section 16 east boundary line to its intersection with the 3,000-foot elevation line, between Goode Hill Road and Elizabeth Lake Pine Canyon Road, T6N, R13W; then

(25) Proceed generally southeast along the 3,000-foot elevation line, crossing onto the Ritter Ridge map, to its intersection with the section 23 east boundary line, north of the intermittent Amargosa Creek and Elizabeth Lake Pine Canyon Road, T6N, R13W; then

(26) Proceed straight south along the section 23 east boundary line to the beginning point.

Signed: November 5, 2007.
John J. Manfreda,
Administrator.

[FR Doc. E7-22697 Filed 11-20-07; 8:45 am]

BILLING CODE 4810-31-P